DEPARTMENT OF THE INTERIOR

National Park Service

[NPS-WASO-NAGPRA-NPS0034494; PPWOCRADN0-PCU00RP14.R50000]

Notice of Inventory Completion: Museum of Cultural and Natural History, Central Michigan University, Mt. Pleasant, MI

AGENCY: National Park Service, Interior.

ACTION: Notice.

SUMMARY: The Museum of Cultural and Natural History at Central Michigan University has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Museum of Cultural and Natural History. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Museum of Cultural and Natural History at the address in this notice by October 14, 2022.

FOR FURTHER INFORMATION CONTACT: Dr. Jay C. Martin, Director, Museum of Cultural and Natural History, Central Michigan University, 103 Rowe Hall, Mt. Pleasant, MI 48859, telephone (989) 774-3829, email marti6jc@cmich.edu.

SUPPLEMENTARY INFORMATION: Notice is here given in accordance with the Native American Graves Protection and Repatriation Act (NAGPRA), 25 U.S.C. 3003, of the completion of an inventory of human remains and associated funerary objects under the control of the Museum of Cultural and Natural History, Central Michigan University, Mt. Pleasant, MI. The human remains and associated funerary objects were removed from Montezuma County, CO.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Museum of Cultural and Natural History staff and consultation occurred with representatives of the Hopi Tribe of Arizona; Ohkay Owingeh, New Mexico (previously listed as Pueblo of San Juan); Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Taos, New Mexico; Pueblo of Tesuque, New Mexico; Pueblo of Zia, New Mexico; Santo Domingo Pueblo (previously listed as Kew Pueblo, New Mexico, and as Pueblo of Santo Domingo); Southern Ute Indian Tribe of the Southern Ute Reservation, Colorado; Ute Mountain Ute Tribe (previously listed as Ute Mountain Tribe of the Ute Mountain Reservation, Colorado, New Mexico, & Utah); and the Zuni Tribe of the Zuni Reservation, New Mexico (hereafter referred to as “The Tribes”).

History and Description of the Remains

In 1970, human remains representing, at minimum, one individual were removed from Montezuma County, CO, by Terry Ballard, an amateur archeologist from Overland Park, KS. The site was located on a farm owned by Mr. Ray Stanley in the vicinity of Hovenweep National Monument and approximately 12 miles outside the municipality of Cortez, in Montezuma County, Colorado. Central Michigan University acquired these human remains in 1971, through two separate donations. The human remains belong to a young adult female. No known individual was identified. The five associated funerary objects are one bone awl, three ceramic pieces, and one lot of faunal remains.

A detailed assessment of the human remains was made by Anthropologists Jacqueline T. Eng and Janet Gardner who determined the individual was of Native American descent. Based upon the burial context detailed in the original site report, the site is reasonably believed to be Anasazi and to date from the Basketmaker II (1000 B.C.) to Pueblo III (A.D. 1300) periods. The stylistic attributes of the associated funerary objects from the Stanley Site indicate that they are of Ancestral Puebloan manufacture.

Determinations Made by the Museum of Cultural and Natural History, Central Michigan University

Officials of the Museum of Cultural and Natural History, Central Michigan University have determined that:

• Pursuant to 25 U.S.C. 3001(9), the human remains described in this notice represent the physical remains of one individual of Native American ancestry.

• Pursuant to 25 U.S.C. 3001(3)(A), the five objects described in this notice are reasonably believed to have been placed with or near individual human remains at the time of death or later as part of the death rite or ceremony.

• Pursuant to 25 U.S.C. 3001(2), there is a relationship of shared group identity that can be reasonably traced between the Native American human remains and associated funerary objects and The Tribes.

Additional Requestors and Disposition

Lineal descendants or representatives of any Indian Tribe or Native Hawaiian organization not identified in this notice that wish to request transfer of control of these human remains and associated funerary objects should submit a written request with information in support of the request to Dr. Jay C. Martin, Museum of Cultural and Natural History, Central Michigan University, 103 Rowe Hall, Mt. Pleasant, MI 48859, telephone (989) 774-3829, email marti6jc@cmich.edu, by October 14, 2022. After that date, if no additional requestors have come forward, transfer of control of the human remains and associated funerary objects to The Tribes may proceed.

The Museum of Cultural and Natural History, Central Michigan University is responsible for notifying The Tribes that this notice has been published.

Dated: September 1, 2022.
Melanie O'Brien,
Manager, National NAGPRA Program.

[FR Doc. 2022-19826 Filed 9-13-22; 8:45 am]

BILLING CODE 4312-52-P